DEPARTMENT OF COMMERCE

National Oceanic and Atmospheric Administration

Public Hearing on the Supplement to the Draft Environmental Impact Statement and Draft Management Plan for the Proposed San Francisco Bay National Estuarine Research Reserve in California

AGENCY: The Estuarine Reserves Division, Office of Ocean and Coastal Resource Management, National Ocean Service, National Oceanic and Atmospheric Administration, Department of Commerce.

ACTION: Public hearing notice.

SUMMARY: Notice is hereby given that the Estuarine Reserves Division, of the Office of Ocean and Coastal Resource Management (OCRM), National Ocean Service (NOS), National Oceanic and Atmospheric Administration (NOAA), U.S. Department of Commerce, will hold a public hearing for the purpose of receiving comments on the Supplement to the Draft Environmental Impact Statement and Draft Management Plan (DEIS/DMP) prepared on the proposed designation of the San Francisco Bay National Estuarine Research Reserve in California. The Supplement to the DEIS/DMP addresses research, monitoring, education and resource protection needs for the proposed reserve.

The Estuarine Reserves Division will hold a public hearing at 7:00 p.m. on February 13th, at Pittsburg, California City Hall, 65 Civic Avenue, Pittsburg, CA 94565.

The views of interested persons and organizations on the adequacy of the Supplement to the DEIS/DMP are solicited, and may be expressed orally and/or in written statements. Presentations will be scheduled on a first-come, first-heard basis, and may be limited to a maximum of five (5) minutes. The time allotment may be extended before the hearing when the number of speakers can be determined. All comments received at the hearing will be considered in the preparation of the Final Environmental Impact Statement (FEIS) and Final Management Plan.

The comment period for the Supplement to the DEIS/DMP will end on February 26, 2002. All written comments received by this deadline will be considered in the preparation of the FEIS.

FOR FURTHER INFORMATION CONTACT: Ms. Laurie McGilvray (301) 713-3155 extension 158, Estuarine Reserves Division, Office of Ocean and Coastal Resource Management, National Ocean Service, NOAA, 1305 East West Highway, N/ORM2, Silver Spring, MD 20910. Copies of the Supplement to the Draft Environmental Impact Statement/Draft Management Plan are available upon request to the Estuarine Reserves Division.

Federal Domestic Assistance Catalog Number 11.420 (Coastal Zone Management) Research Reserves
Dated: January 4, 2002.
Jamison S. Hawkins,
Deputy Assistant Administrator for Ocean Services and Coastal Zone, Management.

[FR Doc. 02-588 Filed 1-10-02; 8:45 am]

BILLING CODE 3510-08-P